DEPARTMENT OF TRANSPORTATION

Surface Transportation Board

[Docket No. AB 1061X]

Central Washington Railroad Company—Discontinuance of Trackage Rights Exemption—in Yakima County, WA

Central Washington Railroad Company (CWRR) ¹ has filed a verified notice of exemption under 49 CFR 1152 Subpart F—Exempt Abandonments and Discontinuances of Service to discontinue trackage rights over 2.25 miles of rail lines owned by Union Pacific Railroad Company (UP), consisting of 1.45 miles between UP milepost 57.3 and UP milepost 58.75 in Grandview, Wash., and 0.8 miles between UP milepost 62.75 and UP milepost 63.55 at Midvale, Wash.² The lines traverse United States Postal Service Zip Code 98930.

¹ CWRR acquired the trackage rights in Central Washington Railroad Company—Lease and Operation Exemption—The Burlington Northern and Santa Fe Railway Company, FD 34640 (STB served Jan. 21, 2005).

² UP was authorized to abandon the 1.45-mile line of railroad in Union Pacific Railroad Company—Abandonment Exemption—in Yakima County, Wash., AB 33 (Sub-No. 285X) (STB served June 22, 2010), and the 0.8-mile line of railroad in Union Pacific Railroad Company—Abandonment Exemption—in Yakima County, Wash., AB 33 (Sub-No. 286X) (STB served June 22, 2010). In each notice, UP was advised it could not consummate the abandonment while existing trackage rights remained in effect.

CWRR has certified that: (1) No local traffic has moved over the lines for at least 2 years; (2) no overhead traffic has moved over the lines for at least 2 years; (3) no formal complaint filed by a user of rail service on the lines (or by a state or local government entity acting on behalf of such user) regarding cessation of service over the lines either is pending with the Board or with any U.S. District Court or has been decided in favor of complainant within the 2-year period; and (4) the requirements at 49 CFR 1105.12 (newspaper publication), and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on August 18, 2010, unless stayed pending reconsideration. Petitions to stay that do not involve environmental issues and formal expressions of intent to file an OFA for continued rail service under 49 CFR 1152.27(c)(2) ³ must be filed by July 29, 2010.⁴ Petitions to reopen must be filed by August 9, 2010, with: Surface Transportation Board, 395 E Street, SW., Washington, DC 20423-0001.

³ Each OFA must be accompanied by the filing fee, which currently is set at $1,500. See 49 CFR 1002.2(f)(25).

⁴ Because this is a discontinuance proceeding and not an abandonment, trail use/rail banking and public use conditions are not appropriate. Likewise, no environmental or historical documentation is required here under 49 CFR 1105.6(c) and 49 CFR 1105.8(b), respectively.

A copy of any petition filed with the Board should be sent to CWRR's representative: Karl Morell, Ball Janik LLP, 1455 F St., NW., Suite 225, Washington, DC 20005.

If the verified notice contains false or misleading information, the exemption is void ab initio.

Board decisions and notices are available on our Web site at http://www.stb.dot.gov.

Decided: July 14, 2010.
By the Board, Rachel D. Campbell, Director, Office of Proceedings.
Jeffrey Herzig,
Clearance Clerk.

[FR Doc. 2010-17496 Filed 7-16-10; 8:45 am]

BILLING CODE 4915-01-P